DEPARTMENT OF ENERGY

Federal Energy Regulatory Commission

Notice of FERC Staff Attendance at the Southwest Power Pool ICT Stakeholder Policy Committee Meeting and the Entergy Regional State Committee Meeting

October 6, 2010.

The Federal Energy Regulatory Commission (Commission) hereby gives notice that members of its staff may attend the meetings noted below. Their attendance is part of the Commission's ongoing outreach efforts.

ICT Stakeholder Policy Committee Meeting

October 20, 2010 (8 a.m.-12 p.m.), Hyatt Regency Downtown Austin, 208 Barton Springs Road, Austin, TX 78704, 888-421-1442.

Entergy Regional State Committee Meeting

October 20, 2010 (1 p.m.-5 p.m.), October 21, 2010 (8 a.m.-12 p.m.), Hyatt Regency Downtown Austin, 208 Barton Springs Road, Austin, TX 78704, 888-421-1442.

The discussions may address matters at issue in the following proceedings:

Docket No. OA07-32 | Entergy Services, Inc.
Docket No. OA08-59 | Entergy Services, Inc.
Docket No. EL00-66 | Louisiana Public Service Commission v. Entergy Services, Inc.
Docket No. EL01-88 | Louisiana Public Service Commission v. Entergy Services, Inc.
Docket No. EL07-52 | Louisiana Public Service Commission v. Entergy Services, Inc.
Docket No. EL08-51 | Louisiana Public Service Commission v. Entergy Services, Inc.
Docket No. EL08-60 | Ameren Services Co. v. Entergy Services, Inc.
Docket No. EL09-43 | Arkansas Public Service Commission v. Entergy Services, Inc.
Docket No. EL09-50 | Louisiana Public Service Commission v. Entergy Services, Inc.
Docket No. EL09-61 | Louisiana Public Service Commission v. Entergy Services, Inc.
Docket No. EL09-78 | South Mississippi Electric Power Association v. Entergy Services, Inc.
Docket No. EL10-55 | Louisiana Public Service Commission v. Entergy Services, Inc.
Docket No. EL10-65 | Louisiana Public Service Commission v. Entergy Services, Inc.
Docket No. ER05-1065 | Entergy Services, Inc.
Docket No. ER07-682 | Entergy Services, Inc.
Docket No. ER07-956 | Entergy Services, Inc.
Docket No. ER08-767 | Entergy Services, Inc.
Docket No. ER08-1056 | Entergy Services, Inc.
Docket No. ER09-636 | Entergy Services, Inc.
Docket No. ER09-833 | Entergy Services, Inc.
Docket No. ER09-1214 | Entergy Services, Inc.
Docket No. ER09-1224 | Entergy Services, Inc.
Docket No. ER10-794 | Entergy Services, Inc.
Docket No. ER10-879 | Entergy Services, Inc.
Docket No. ER10-984 | Entergy Services, Inc.
Docket No. ER10-1350 | Entergy Services, Inc.
Docket No. ER10-1367 | Entergy Services, Inc.
Docket No. ER10-1763 | Entergy Arkansas, Inc.
Docket No. ER10-1764 | Entergy Gulf States, Louisiana, Inc.
Docket No. ER10-1765 | Entergy Louisiana, LLC.
Docket No. ER10-1766 | Entergy Mississippi, Inc.
Docket No. ER10-1767 | Entergy Texas, Inc.
Docket No. ER10-1769 | Entergy New Orleans, Inc.
Docket No. ER10-2216 | Entergy Arkansas, Inc.
Docket No. ER10-2223 | Entergy Mississippi, Inc.
Docket No. ER10-2224 | Entergy Texas, Inc.
Docket No. ER10-2226 | Entergy Louisiana, LLC.
Docket No. ER10-2228 | Entergy New Orleans, Inc.
Docket No. ER10-2247 | Entergy Services, Inc.
Docket No. ER10-2267 | Entergy Services, Inc.
Docket No. ER10-2292 | Entergy Services, Inc.
Docket No. ER10-2299 | Entergy Services, Inc.
Docket No. ER10-2748 | Entergy Services, Inc.

These meetings are open to the public.

For more information, contact Patrick Clarey, Office of Energy Market Regulation, Federal Energy Regulatory Commission at (317) 249-5937 or patrick.clarey@ferc.gov.

Kimberly D. Bose,
Secretary.

[FR Doc. 2010-25797 Filed 10-13-10; 8:45 am]

BILLING CODE 6717-01-P